JUDICIAL CONFERENCE OF THE UNITED STATES

Adjustment of Certain Dollar Amounts Applicable to Bankruptcy Cases

Correction

In notice document, 2025-02207, appearing on pages 8941-8942 in the issue of Tuesday, February 4, 2025, make the following corrections:

1. On page 8942, in the second column, in the last line of the table, “$25,700” should read “$27,750”.

2. On the same page, in the third column, in the second line from the bottom of the table, “$27,750” should read “$25,700”.

[FR Doc. C1-2025-02207 Filed 2-24-25; 8:45 am]

BILLING CODE 1505-01-D